DEPARTMENT OF TRANSPORTATION

Federal Aviation Administration

14 CFR Part 39

[Docket No. FAA-2009-0218; Directorate Identifier 2009-CE-006-AD]

RIN 2120-AA64

Airworthiness Directives; Piper Aircraft, Inc. PA-23, PA-31, and PA-42 Airplanes

AGENCY: Federal Aviation Administration (FAA), DOT.

ACTION: Notice of proposed rulemaking (NPRM).

SUMMARY: We propose to revise an existing airworthiness directive (AD) that applies to Piper Aircraft, Inc. PA-23, PA-31, and PA-42 airplanes. The existing AD currently establishes life limits for safety-critical nose baggage door components. That AD also requires you to replace those safety-critical nose baggage door components and repetitively inspect and lubricate the nose baggage door latching mechanism and lock assembly. Since we issued that AD, through further investigation and a request for an alternative method of compliance (AMOC), we determined the nose baggage door compartment light does not impact the unsafe condition addressed by the AD. This proposed AD would remove the requirement for the nose baggage door compartment interior light inspection and retain the other requirements from AD 2009-13-06, Amendment 39-15944 (74 FR 29118). The door opening in flight could significantly affect the handling and performance of the aircraft. It could also allow baggage to be ejected from the nose baggage compartment and strike the propeller. This failure could lead to loss of control.

DATES: We must receive comments on this proposed AD by July 5, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Piper Aircraft, Inc., 2926 Piper Drive, Vero Beach, Florida 32960; telephone: (772) 567-4361; fax: (772) 978-6573; Internet: http://www.newpiper.com/company/publications.asp. You may review copies of the referenced service information at the FAA, Small Airplane Directorate, 901 Locust, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gregory K. Noles, Aerospace Engineer, FAA, Atlanta Aircraft Certification Office, 1701 Columbia Avenue, College Park, Georgia 30337; telephone: (404) 474-5551; fax: (404) 474-5606.

SUPPLEMENTARY INFORMATION:

Comments Invited

We invite you to send any written relevant data, views, or arguments about this proposed AD. Send your comments to an address listed under the ADDRESSES section. Include “Docket No. FAA-2009-0218; Directorate Identifier 2009-CE-006-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 12, 2009, we issued AD 2009-13-06, Amendment 39-15944 (74 FR 29118), for certain Piper Aircraft, Inc. PA-23, PA-31, and PA-42 airplanes. That AD established life limits for safety-critical nose baggage door components. That AD also required replacement of those safety-critical nose baggage door components and repetitive inspections and lubrications of the nose baggage door latching mechanism and lock assembly. That AD resulted from several incidents and accidents, including fatal accidents, where the nose baggage door opening in flight was listed as a causal factor. We issued that AD to detect and correct damaged, worn, corroded, or non-conforming nose baggage door components, which could result in the nose baggage door opening in flight. The door opening in flight could significantly affect the handling and performance of the aircraft. It could also allow baggage to be ejected from the nose baggage compartment and strike the propeller. This failure could lead to loss of control.

Actions Since Existing AD Was Issued

Since we issued AD 2009-13-06, through further investigation and a request for a AMOC, we determined that requiring the inspection of the nose baggage door compartment light does not impact the unsafe condition addressed by the AD.

Relevant Service Information

We reviewed Piper Aircraft, Inc. Mandatory Service Bulletin No. 1194A, dated November 10, 2008. The service bulletin establishes life limits for safety-critical nose baggage door components, provides instructions on inspection and replacement of nose baggage door components, and provides instructions for lubrication of the nose baggage door latching mechanism and lock assembly.

FAA's Determination

We are proposing this AD because we evaluated all the relevant information and determined the unsafe condition described previously is likely to exist or develop in other products of the same type design.

Proposed AD Requirements

This proposed AD would retain certain requirements of AD 2009-13-06. This proposed AD would remove the requirement for the nose baggage door compartment interior light inspection and retain the requirements to established life limits for safety-critical nose baggage door components, detect and correct damaged, worn, corroded, or non-conforming nose baggage door components, and repetitive inspections and lubrications of the nose baggage door latching mechanism and lock assembly.

Differences Between the Proposed AD and the Service Information

This proposed AD would remove the requirement for the nose baggage door compartment light inspection referenced in the last sentence of Piper Aircraft, Inc. Mandatory Service Bulletin No. 1194A, dated November 10, 2008, Part 1, Step 1.

Costs of Compliance

We estimate that this proposed AD affects 8,000 airplanes of U.S. registry.

We estimate the following costs to comply with this proposed AD:

Estimated Costs
Action | Labor cost | Parts cost | Cost per product | Cost on U.S. operators
Inspection and parts replacement of nose baggage door | 4 work-hours × $85 per hour = $340 | $190 | $530 | $4,240,000

The new requirements of this proposed AD add no additional economic burden. The increased estimated cost of this AD is due to increased labor cost from 2009 when AD 2009-13-06 was issued.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-13-06, Amendment 39-15944 (74 FR 29118), and adding the following new AD:

Piper Aircraft, Inc.: Docket No. FAA-2009-0218; Directorate Identifier 2009-CE-006-AD.

Comments Due Date

(a) The FAA must receive comments on this AD action by July 5, 2011.

Affected ADs

(b) This AD revises AD 2009-13-06, Amendment 39-15944.

Applicability

(c) This AD applies to Models PA-23, PA-23-160, PA-23-235, PA-23-250, PA-23-250 (Navy UO-1), PA-E23-250, PA-31, PA-31-300, PA-31-325, PA-31-350, PA-31P, PA-31P-350, PA-31T, PA-31T1, PA-31T2, PA-31T3, PA-42, PA-42-720, and PA-42-1000 airplanes, all serial numbers, that are:

(1) Certificated in any category; and

(2) Equipped with a baggage door in the fuselage nose section (a nose baggage door).

Subject

(d) Joint Aircraft System Component (JASC)/Air Transport Association (ATA) of America Code, 52, Doors.

Unsafe Condition

(e) This AD was prompted by several incidents and accidents, including fatal accidents, where the nose baggage door opening in flight was listed as a causal factor. We are issuing this AD to establish life limits for safety-critical nose baggage door components, replace those safety-critical nose baggage door components, and repetitively inspect and lubricate the nose baggage door latching mechanism and lock assembly. The door opening in flight could significantly affect the handling and performance of the aircraft. It could also allow baggage to be ejected from the nose baggage compartment and strike the propeller. This failure could lead to loss of control.

Compliance

(f) Comply with this AD within the compliance times specified, unless already done.

Actions | Compliance | Procedures
(1) For all aircraft: (i) Inspect the nose baggage door assembly for damaged, worn, corroded, or non-conforming components; (ii) Replace life-limited components specified in the service information; and (iii) Install or inspect, as applicable, the nose baggage placard following the service information. | Initially within 1,000 hours time-in-service (TIS) since all life-limited components were installed new following Piper Aircraft, Inc. Mandatory Service Bulletin No. 1194A, dated November 10, 2008, or within the next 100 hours TIS after July 24, 2009 (the effective date retained from AD 2009-13-06), whichever occurs later. Repetitively thereafter at intervals not to exceed 1,000 hours TIS. | Follow INSTRUCTIONS: PART I of Piper Aircraft, Inc. Mandatory Service Bulletin No. 1194A, dated November 10, 2008. As an alternative to using part number 100700-079 placard, you may fabricate a placard (using at least 1/8-inch letters) with the words in figure 1 of this AD and install the placard directly above the nose baggage door handle. This AD does not require verification of proper functioning of the nose baggage compartment interior light as stated in the last sentence of PART 1, paragraph 1, of Piper Aircraft, Inc. Mandatory Service Bulletin No. 1194A, dated November 10, 2008.
(2) For all aircraft: (i) Lubricate and inspect all nose baggage door latching and locking components for damaged, worn, corroded, or non-conforming components; and | Initially within 100 hours TIS after July 24, 2009 (the effective date retained from AD 2009-13-06); and Repetitively thereafter at intervals not to exceed 100 hours TIS. | Follow INSTRUCTIONS: PART II of Piper Aircraft, Inc. Mandatory Service Bulletin No. 1194A, dated November 10, 2008.
(ii) Verify the key can only be removed from the lock assembly in the locked position in accordance with the service instructions.
(3) For all aircraft with damaged, worn, corroded, or non-conforming components: repair/replace any damaged, worn, corroded, or non-conforming components. | Before further flight after any inspection required in paragraphs (f)(1) and (f)(2) of this AD where any evidence of damaged, worn, corroded or non-conforming components was found. | Follow Piper Aircraft, Inc. Mandatory Service Bulletin No. 1194A, dated November 10, 2008.

Alternative Methods of Compliance (AMOCs)

(g)(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved for AD 2009-13-06 are approved as AMOCs for this AD.

Related Information

(h) For more information about this AD, contact Gregory K. Noles, Aerospace Engineer, FAA, Atlanta ACO, 1701 Columbia Avenue, College Park, Georgia 30337; telephone: (404) 474-5551; fax: (404) 474-5606.

(i) For service information identified in this AD, contact Piper Aircraft, Inc., 2926 Piper Drive, Vero Beach, Florida 32960; telephone: (772) 567-4361; fax: (772) 978-6573; Internet: http://www.newpiper.com/company/publications.asp. You may review copies of the referenced service information at the FAA, Central Region, Office of the Regional Counsel, 901 Locust, Kansas City, Missouri 64106. For information on the availability of this material at the FAA, call (816) 329-3768.

Issued in Kansas City, Missouri, on May 13, 2011.
Earl Lawrence,
Manager, Small Airplane Directorate, Aircraft Certification Service.

[FR Doc. 2011-12463 Filed 5-19-11; 8:45 am]

BILLING CODE 4910-13-P